DEPARTMENT OF TRANSPORTATION

Federal Aviation Administration

14 CFR Part 39

[Docket No. FAA-2009-0211; Directorate Identifier 2008-NM-028-AD]

RIN 2120-AA64

Airworthiness Directives; Airbus Model A330-200, A330-300, A340-200, and A340-300 Series Airplanes

AGENCY: Federal Aviation Administration (FAA), DOT.

ACTION: Notice of proposed rulemaking (NPRM).

SUMMARY: We propose to adopt a new airworthiness directive (AD) for the products listed above. This proposed AD results from mandatory continuing airworthiness information (MCAI) originated by an aviation authority of another country to identify and correct an unsafe condition on an aviation product. The MCAI describes the unsafe condition as:

* * * * *

[B]ogie beam internal paint has been degraded, leading to a loss of cadmium plating and thus allowing development of corrosion pitting.

If not corrected, this situation under higher speed could result in the aircraft departing the runway or in the bogie [beam] detaching from the aircraft or [main landing] gear collapses, which would constitute an unsafe condition.

* * * * *

The proposed AD would require actions that are intended to address the unsafe condition described in the MCAI.

DATES: We must receive comments on this proposed AD by April 9, 2009.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays. For Airbus service information identified in this proposed AD, contact Airbus SAS—Airworthiness Office—EAL, 1 Rond Point Maurice Bellonte, 31707 Blagnac Cedex, France; fax +33 5 61 93 45 80, e-mail airworthiness.A330-A340@airbus.com; Internet http://www.airbus.com. For Messier-Dowty service information identified in this proposed AD, contact Messier Services Americas, Customer Support Center, 45360 Severn Way, Sterling, Virginia 20166-8910; telephone 703-450-8233; fax 703-404-1621; Internet https://techpubs.services.messier-dowty.com. You may review copies of the referenced service information at the FAA, Transport Airplane Directorate, 1601 Lind Avenue, SW., Renton, Washington. For information on the availability of this material at the FAA, call 425-227-1221 or 425-227-1152.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Vladimir Ulyanov, Aerospace Engineer, International Branch, ANM-116, Transport Airplane Directorate, FAA, 1601 Lind Avenue, SW., Renton, Washington 98057-3356; telephone (425) 227-1138; fax (425) 227-1149.

SUPPLEMENTARY INFORMATION:

Comments Invited

We invite you to send any written relevant data, views, or arguments about this proposed AD. Send your comments to an address listed under the ADDRESSES section. Include “Docket No. FAA-2009-0211; Directorate Identifier 2008-NM-028-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2008-0093, dated May 20, 2008 (referred to after this as “the MCAI”), to correct an unsafe condition for the specified products. The MCAI states:

The operator of an A330 aircraft (which has a common bogie beam with the A340) has reported a fracture of the RH (right-hand) MLG (main landing gear) Bogie Beam whilst turning during low speed taxi maneuvers. The bogie [beam] fractured aft of the pivot point and remained attached to the sliding tube by the brake torque reaction rods. After this RH bogie [beam] failure, the aircraft continued for approximately 40 meters on the forks of the sliding member before coming to rest on the taxiway without any passenger injury.

The preliminary investigations revealed that this event was due to corrosion pitting occurring on the bore of the bogie beam. Investigations are ongoing to determine why bogie beam internal paint has been degraded, leading to a loss of cadmium plating and thus allowing development of corrosion pitting.

If not corrected, this situation under higher speed could result in the aircraft departing the runway or in the bogie [beam] detaching from the aircraft or [main landing] gear collapses, which would constitute an unsafe condition.

To enable early detection and repair of any corrosion of the internal surfaces, EASA AD 2007-0314 required a one-time inspection on all MLG Bogie Beams except Enhanced MLG Bogie Beams and the reporting of the results to AIRBUS.

The Revision 1 of AD 2007-0314 aimed to clarify the compliance time of the inspection and to extend the reporting period.

The present AD which supersedes the AD 2007-0314R1:

—Takes over the AD 2007-0314R1 requirements and

—Reduces the inspection threshold from 6 to 4.5 years due to significant findings on the inspected aircraft.

Required actions include applying protective treatments to the bogie beam and corrective actions. Corrective actions include repair of any damaged or corroded surfaces or surface treatments; and contacting Messier-Dowty for repair instructions and doing the repair. You may obtain further information by examining the MCAI in the AD docket.

Relevant Service Information

Airbus and Messier-Dowty have issued the service information described in the following table. The actions described in this service information are intended to correct the unsafe condition identified in the MCAI.

Service Information
Service Bulletin | Date
Airbus Mandatory Service Bulletin A330-32-3225, including Appendix 01 | November 21, 2007.
Airbus Mandatory Service Bulletin A340-32-4268, including Appendix 01 | November 21, 2007.
Messier-Dowty Service Bulletin A33/34-32-271, including Appendix A | September 13, 2007.
Messier-Dowty Service Bulletin A33/34-32-272, including Appendixes A, B, C, and D | November 16, 2007.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a NOTE within the proposed AD.

Costs of Compliance

Based on the service information, we estimate that this proposed AD would affect about 29 products of U.S. registry. We also estimate that it would take about 22 work-hours per product to comply with the basic requirements of this proposed AD. The average labor rate is $80 per work-hour. Based on these figures, we estimate the cost of the proposed AD on U.S. operators to be $51,040, or $1,760 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Airbus: Docket No. FAA-2009-0211; Directorate Identifier 2008-NM-028-AD.

Comments Due Date

(a) We must receive comments by April 9, 2009.

Affected ADs

(b) None.

Applicability

(c) This AD applies to Airbus Model A330-200, A330-300, A340-200, and A340-300 series airplanes; certificated in any category; all certified models; all serial numbers, except those on which Airbus modification 54500 has been embodied in production or Airbus Service Bulletin A330-32-3212 has been embodied in service.

Subject

(d) Air Transport Association (ATA) of America Code 32: Landing Gear.

Reason

(e) The mandatory continuing airworthiness information (MCAI) states:

“The operator of an A330 aircraft (which has a common bogie beam with the A340) has reported a fracture of the RH (right-hand) MLG (main landing gear) Bogie Beam whilst turning during low speed taxi maneuvers. The bogie [beam] fractured aft of the pivot point and remained attached to the sliding tube by the brake torque reaction rods. After this RH bogie [beam] failure, the aircraft continued for approximately 40 meters on the forks of the sliding member before coming to rest on the taxiway without any passenger injury.

``The preliminary investigations revealed that this event was due to corrosion pitting occurring on the bore of the bogie beam. Investigations are ongoing to determine why bogie beam internal paint has been degraded, leading to a loss of cadmium plating and thus allowing development of corrosion pitting.

``If not corrected, this situation under higher speed could result in the aircraft departing the runway or in the bogie [beam] detaching from the aircraft or [main landing] gear collapses, which would constitute an unsafe condition.

``To enable early detection and repair of any corrosion of the internal surfaces, EASA AD 2007-0314 required a one-time inspection on all MLG Bogie Beams except Enhanced MLG Bogie Beams and the reporting of the results to AIRBUS.

``The Revision 1 of AD 2007-0314 aimed to clarify the compliance time of the inspection and to extend the reporting period.

``The present AD which supersedes the AD 2007-0314R1:

—Takes over the AD 2007-0314R1 requirements and

—Reduces the inspection threshold from 6 to 4.5 years due to significant findings on the inspected aircraft.''

Required actions include applying protective treatments to the bogie beam and corrective actions. Corrective actions include repair of any damaged or corroded surfaces or surface treatments; and contacting Messier-Dowty for repair instructions and doing the repair.

Actions and Compliance

(f) Unless already done, do the following actions.

(1) At the applicable compliance time specified in paragraph (f)(2) or (f)(3) of this AD: Clean the internal bore and perform a detailed visual inspection of internal surfaces of the MLG bogie beam (right-hand and left-hand) for any damage to the protective treatments or any corrosion, in accordance with the Accomplishment Instructions of Airbus Mandatory Service Bulletin A330-32-3225 or A340-32-4268, both dated November 21, 2007; as applicable.

(i) If no damage and corrosion is found, before further flight, apply the protective treatments of the bogie beam, in accordance with the Accomplishment Instructions of Messier-Dowty Service Bulletin A33/34-32-272, including Appendixes A, B, C, and D, dated November 16, 2007.

(ii) If any damage or corrosion is found, before further flight, do all applicable corrective actions and apply the protective treatments of the bogie beam, in accordance with the Accomplishment Instructions of Messier-Dowty Service Bulletin A33/34-32-272, including Appendixes A, B, C, and D, dated November 16, 2007.

(2) For airplanes with 54 months or less time-in-service since the date of issuance of the original French airworthiness certificate or the date of issuance of the original French export certificate of airworthiness as of the effective date of this AD: At the latest of the applicable times specified in paragraphs (f)(2)(i), (f)(2)(ii), and (f)(2)(iii) of this AD, do the actions required by paragraph (f)(1) of this AD.

(i) Not before 54 months since the date of issuance of the original French airworthiness certificate or the date of issuance of the original French export certificate of airworthiness, but no later than 72 months since the date of issuance of the original French airworthiness certificate or the date of issuance of the original French export certificate of airworthiness.

(ii) Not before 54 months since the installation of a new bogie beam in-service before the effective date of this AD, but no later than 72 months since the installation of a new bogie beam in-service before the effective date of this AD.

(iii) Not before 54 months since the last overhaul of a bogie beam before the effective date of this AD, but no later than 72 months since the last overhaul of a bogie beam before the effective date of this AD.

(3) For airplanes with more than 54 months time-in-service since the date of issuance of the original French airworthiness certificate or the date of issuance of the original French export certificate of airworthiness as of the effective date of this AD: At the applicable time specified in paragraph (f)(3)(i), (f)(3)(ii), (f)(3)(iii), (f)(3)(iv), or (f)(3)(v) of this AD, do the actions required by paragraph (f)(1) of this AD.

(i) For airplanes on which the bogie beam has not been replaced or overhauled since the date of issuance of the original French airworthiness certificate or the date of issuance of the original French export certificate of airworthiness as of the effective date of this AD: Within 18 months after the effective date of this AD.

(ii) For airplanes on which the bogie beam has been replaced in-service with a new bogie beam and the new bogie beam has more than 54 months time-in-service as of the effective date of this AD: Within 18 months after the effective date of this AD.

(iii) For airplanes on which the bogie beam has been replaced in-service with a new bogie beam and the new bogie beam has 54 months or less time-in-service as of the effective date of this AD: Not before 54 months since the installation of a new bogie beam in-service before the effective date of this AD, but no later than 72 months since the installation of a new bogie beam in-service before the effective date of this AD.

(iv) For airplanes on which the bogie beam has been overhauled and the overhauled bogie beam has more than 54 months time-in-service as of the effective date of this AD: Within 18 months after the effective date of this AD, or at the next scheduled bogie beam overhaul, whichever occurs first.

(v) For airplanes on which the bogie beam has been overhauled and the overhauled bogie beam has 54 months or less time-in-service as of the effective date of this AD: Not before 54 months since the last overhaul of a bogie beam before the effective date of this AD, but no later than 72 months since the last overhaul of a bogie beam before the effective date of this AD.

(4) Within 30 days after accomplishment of the inspection required by paragraph (f)(1) of this AD or within 30 days after the effective date of this AD, whichever occurs later, report the results, including no findings, to Airbus, 1 Rond Point Maurice Bellonte, 31707 Blagnac Cedex, France; e-mail airworthiness.A330-A340@airbus.com.

(5) Actions accomplished in accordance with Messier-Dowty Service Bulletin A33/34-32-271, including Appendix A, dated September 13, 2007, are considered acceptable for compliance with the corresponding requirements of this AD.

FAA AD Differences

Note 1: This AD differs from the MCAI and/or service information as follows: The MCAI specifies repair and corrective actions in accordance with Airbus Mandatory Service Bulletin A330-32-3225 or A340-32-4268, both dated November 21, 2007; however, the Airbus service bulletins do not describe those actions. Paragraphs (f)(1)(i) and (f)(1)(ii) of this AD specify repair and corrective actions in accordance with Messier-Dowty Service Bulletin A33/34-32-272, including Appendixes A, B, C, and D, dated November 16, 2007.

Other FAA AD Provisions

(g) The following provisions also apply to this AD:

(1) Alternative Methods of Compliance (AMOCs): The Manager, International Branch, ANM-116, Transport Airplane Directorate, FAA, has the authority to approve AMOCs for this AD, if requested using the procedures found in 14 CFR 39.19. Send information to ATTN: Vladimir Ulyanov, Aerospace Engineer, International Branch, ANM-116, Transport Airplane Directorate, FAA, 1601 Lind Avenue, SW., Renton, Washington 98057-3356; telephone (425) 227-1138; fax (425) 227-1149. Before using any approved AMOC on any airplane to which the AMOC applies, notify your principal maintenance inspector (PMI) or principal avionics inspector (PAI), as appropriate, or lacking a principal inspector, your local Flight Standards District Office.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to European Aviation Safety Agency (EASA) Airworthiness Directive 2008-0093, dated May 20, 2008, and the service bulletins specified in Table 1 of this AD, for related information.

Table 1—Service Information
Service Bulletin | Date
Airbus Mandatory Service Bulletin A330-32-3225, including Appendix 01 | November 21, 2007.
Airbus Mandatory Service Bulletin A340-32-4268, including Appendix 01 | November 21, 2007.
Messier-Dowty Service Bulletin A33/34-32-271, including Appendix A | September 13, 2007.
Messier-Dowty Service Bulletin A33/34-32-272, including Appendixes A, B, C, and D | November 16, 2007.

Issued in Renton, Washington, on February 24, 2009.
Ali Bahrami,
Manager, Transport Airplane Directorate, Aircraft Certification Service.

[FR Doc. E9-5062 Filed 3-9-09; 8:45 am]

BILLING CODE 4910-13-P